DEPARTMENT OF COMMERCE

National Oceanic and Atmospheric Administration

[RTID 0648-XE033]

Pacific Island Fisheries; Western Pacific Stock Assessment Review; Public Meeting

AGENCY: National Marine Fisheries Service (NMFS), National Oceanic and Atmospheric Administration (NOAA), Commerce.

ACTION: Notice; public meeting.

SUMMARY: The Western Pacific Fishery Management Council (Council) and NMFS will convene a Western Pacific Stock Assessment Review (WPSAR) of the fishery dependent and life history data that will be used in the future benchmark stock assessment for the multispecies bottomfish complex in Guam.

DATES: The WPSAR meeting will be held July 8-12, 2024, Chamorro Standard Time (ChST).

ADDRESSES: The meeting will be held at The Gallery Room at the Guam Hilton Resort and Spa (202 Hilton Road, Tumon Bay, 96913 Guam) and by web conference via WebEx. Audio and visual portions for all of the web conferences can be accessed at: https://wprfmc.webex.com/wprfmc/j.php?MTID=m1b55573461dbde5ff36edcdb0bd66f4c. Web conference access information and instructions for providing public comments will be posted on the Council website at www.wpcouncil.org. For assistance with the web conference connection, contact the Council office at (808) 552-8220.

FOR FURTHER INFORMATION CONTACT: Kitty M. Simonds, Executive Director, Western Pacific Fishery Management Council; telephone: (808) 522-8220.

SUPPLEMENTARY INFORMATION: The NMFS Pacific Islands Fisheries Science Center (PIFSC) is developing a benchmark stock assessment for the bottomfish management unit species (BMUS) in the U.S. territory of Guam. Consistent with National Standard 2 of the Magnuson-Stevens Fishery Conservation and Management Act, the WPSAR Policy requires a review of the data, on an as-needed basis, that will be used in the benchmark stock assessment. The peer-review of the data will provide the analyst with the guidance on the utility and limitations of the available data for use in the assessment. This review is necessary to determine what modeling framework can be applied to the data moving towards the next benchmark.

Meeting Agenda for WPSAR Review

The meeting schedule and agenda are as follows:

Monday, July 8, 2024 (8:30 a.m.-5 p.m., ChST)

1. Introductions

2. Background on Guam bottomfish data WPSAR

3. WPSAR Terms of Reference

4. Presentation of catch estimation data, and panel discussion

6 p.m.-7 p.m.

5. End of day summary for catch estimation data

6. Public Comment

Tuesday, July 9, 2024 (9 a.m.-5 p.m., ChST)

7. Presentation of catch per unit effort (CPUE) data, and panel discussion

6 p.m.-7 p.m.

8. End of day summary for CPUE data

9. Public comment

Wednesday, July 10, 2024 (9 a.m.-5 p.m., ChST)

10. Presentation of length composition data, and panel discussion

6 p.m.-8 p.m.

11. Summary of catch estimate, CPUE, and length composition

12. Public comment

Thursday, July 11, 2024 (9 a.m.-5 p.m., ChST)

13. Presentation of life history data, and panel discussion

6 p.m.-7 p.m.

14. End of day summary for life history

15. Public comment

Friday, July 12, 2024 (9 a.m.-3 p.m., ChST)

16. Data Review Panel discussions (closed to the public)

3 p.m.-5 p.m.

17. Data review results and recommendations

6 p.m.-7 p.m.

18. End of day summary for results and recommendations

19. Public comment

20. Closing comments and adjourn

Special Accommodations

This meeting is physically accessible to people with disabilities. Please direct requests for sign language interpretation or other auxiliary aids to Kitty M. Simonds, (808) 522-8220 (voice) or (808) 522-8226 (fax), at least 5 days prior to the meeting date.

Authority: 16 U.S.C. 1801 et seq.

Dated: June 12, 2024.
Kelly Denit,
Director, Office of Sustainable Fisheries, National Marine Fisheries Service.

[FR Doc. 2024-13346 Filed 6-17-24; 8:45 am]

BILLING CODE 3510-22-P